DEPARTMENT OF LABOR

Employment and Training Administration

Information for Stakeholder Engagement for the Workforce Innovation and Opportunity Act Implementation

AGENCY: Employment and Training Administration, Labor.

ACTION: Announcement of meetings.

SUMMARY: The Employment and Training Administration (ETA) of the U.S. Department of Labor (Department or DOL) issues this notice to announce a series of Webinars to engage the public in implementation of the Workforce Innovation and Opportunity Act (the Workforce Act or the Act). Additionally, the Department has established a Resource Page that contains resource information on the Workforce Act, including implementation timelines and questions and answers.

DATES: The Webinar dates and topics are as follows. All webinars will begin at 2:00 p.m. eastern time and last for 1 hour.

• Thursday, August 21—Strengthening the One Stop System.

• Friday, August 22—Job-Driven Training for Adults and Dislocated Workers.

• Monday, August 25—Integrated Performance Reporting and the ETPL.

• Tuesday, August 26—Consultation with Consumers, Advocacy Groups, and Direct Service Providers on Services for Individuals with Disabilities.

• Thursday, August 28—The Migrant and Seasonal Farmworker Program.

• Tuesday, September 2—Services to Individuals with Disabilities.

• Friday, September 5—Services to Disconnected Youth.

• Thursday, September 11—Strategic Program Alignment and Unified Planning.

• Friday, September 12—WIOA and Registered Apprenticeship.

• Monday, September 15—The Indian and Native American Program.

ADDRESSES: To register to participate in one or more webinars, please visit http://www.doleta.gov/WIOA.

FOR FURTHER INFORMATION CONTACT: Dorjan Chaney, ETA, U.S. Department of Labor, 200 Constitution Avenue NW., Room, Washington, DC 20210; Telephone (202) 693-3656; email: DOL.WIOA@dol.gov. Individuals with hearing or speech impairments may access the telephone number above via TTY by calling the toll-free Federal Information Relay Service at 1-(877)889-5627 (TTY/TDD).

SUPPLEMENTARY INFORMATION:

Background:

President Barack Obama signed the Workforce Innovation and Opportunity Act into law on July 22, 2014. The Act is designed to help job seekers access employment, education, training, and support services to succeed in the labor market and to match employers with the skilled workers they need to compete in the global economy. Congress passed the Act by a wide bipartisan majority; it is the first legislative reform in 15 years of the public workforce system.

Every year the key programs that form the pillars of the Workforce Innovation and Opportunity Act help tens of millions of job seekers and workers to connect to good jobs and acquire the skills and credentials needed to obtain them. The enactment of this law provides opportunity for reforms to ensure the American Job Center system is job-driven—responding to the needs of employers and preparing workers for jobs that are available now and in the future.

The Workforce Innovation and Opportunity Act supersedes the Workforce Investment Act of 1998 and amends the Adult Education and Family Literacy Act, the Wagner-Peyser Act, and the Rehabilitation Act Amendments of 1998. In general, the Act takes effect on July 1, 2015, the first full program year after enactment, unless otherwise noted.

More information about the Workforce Innovation and Opportunity Act, key implementation timelines, and frequently asked questions can be found at http://www.doleta.gov/WIOA.

Input from state and local workforce leaders and practitioners, workforce system partners, customers, and other stakeholders, is critical to successful implementation of this new law. These Webinars provide an opportunity for the Department to hear your input on the following key implementation topics:

• Thursday, August 21—Strengthening the One Stop System.

• Friday, August 22—Job-Driven Training for Adults and Dislocated Workers.

• Monday, August 25—Integrated Performance Reporting and the ETPL.

• Tuesday, August 26—Consultation with Consumers, Advocacy Groups, and Direct. Service Providers on Services for Individuals with Disabilities.

• Thursday, August 28—The Migrant and Seasonal Farmworker Program.

• Tuesday, September 2—Services to Individuals with Disabilities.

• Friday, September 5—Services to Disconnected Youth.

• Thursday, September 11—Strategic Program Alignment and Unified Planning.

• Friday, September 12—WIOA and Registered Apprenticeship.

• Monday, September 15—The Indian and Native American Program.

Each webinar will follow a consistent format.

I. Welcome and Purpose

II. Brief Overview of the Act

III. Key Changes in the Law for the Topic Discussed

IV. Discussion Questions

V. Conclusion

The discussion questions for each webinar will be shared in advance on the webinar registration page at http://www.doleta.gov/WIOA.

Signed at Washington, DC, this 12th day of August 2014.
Portia Wu,
Assistant Secretary for Employment and Training.

[FR Doc. 2014-19484 Filed 8-15-14; 8:45 am]

BILLING CODE 4510-FM-P